ENVIRONMENTAL PROTECTION AGENCY

[EPA-HQ-OPPT-2017-0405; FRL-9965-05]

Certain New Chemicals; Receipt and Status Information for May 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from May 1, 2017 to May 31, 2017.

DATES: Comments identified by the specific case number provided in this document, must be received on or before October 6, 2017.

ADDRESSES: Submit your comments, identified by docket identification (ID) number EPA-HQ-OPPT-2016-0702, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from May 1, 2017 to May 31, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 22 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From May 1, 2017 to May 31, 2017
Case No. | Received date | Projected notice end date | Manufacturer importer | Use | Chemical
P-17-0297 | 5/4/2017 | 8/2/2017 | Gelest | (S) Carrier for printing inks (S) Personal care (S) Research | (S) Trisiloxane, 1,1,1,3,5,5,5-heptamethyl-3-propyl-.
P-17-0298 | 5/2/2017 | 7/31/2017 | GE Water & Process Technologies | (S) The notified substance is described as a hydrogen sulfide scavenger used in controlling hydrogen sulfide in the vapor space of fuel storage, shipping vessels and pipelines. It is designed to reduce the health, safety and environmental hazards of handling fuels containing h2s. The substance reacts selectively with (neutralizes) and removes h2s to help meet product and process specifications | (S) Formaldehyde, homopolymer, reaction products with n-propyl-1-propanamine.
P-17-0299 | 5/2/2017 | 7/31/2017 | CBI | (G) Paint additive | (G) 2-propenoic acid, alkyl-, polymers with alkyl acrylate and polyethylene glycol methacrylate alkyl ether.
P-17-0300 | 5/4/2017 | 8/2/2017 | CBI | (S) Surface treatment material for use on textiles | (G) Isocyanate, polymer, pyrazole, polyethylene glycol derivative and fluoro alcohol.
P-17-0301 | 5/15/2017 | 8/13/2017 | CBI | (G) Used as a surface drier in clear and pigmented coatings systems to replace other primary driers, particularly cobalt | (G) Manganese heterocyclic-amine carboxylate complexes.
P-17-0303 | 5/12/2017 | 8/10/2017 | CBI | (G) Component for tire | (G) Modified copolymer of buta-1,3-diene and styrene.
P-17-0304 | 5/11/2017 | 8/9/2017 | Hmt, LLC | (S) The substance is a part of a thermoset plastic material. The thermoset plastic in combination with glass fibers will produce a composite material for construction of internal & external floating roofs in atmospheric storage tanks used in petrochemical plants | (S) See letter of support.
P-17-0305 | 5/15/2017 | 8/13/2017 | Allnex USA Inc | (S) UV curable coating resin | (G) Waste plastics, poly(ethylene terephthalate), depolymd. with polypropylene glycol ether with glycerol (3:1), polymers with alkenoic acid, alkanoic acid and alkanol substituted alkane.
P-17-0306 | 5/19/2017 | 8/17/2017 | CBI | (G) Component in foam insulation | (G) Fatty acid modified aromatic polyester polyol
P-17-0307 | 5/19/2017 | 8/17/2017 | CBI | (G) Component in foam insulation | (G) Fatty acid modified aromatic polyester polyol.
P-17-0308 | 5/19/2017 | 8/17/2017 | CBI | (S) As crosslinker in silicone sealants used in automotive repair shops to seal various metal parts in vehicles to metal andgGlass (S) As crosslinker for silicone sealants used to create metal-to-metal, metal-to-glass, or metal-to-ceramic bonds in automotive and white goods production | (S) 2-pentanone, 2,2′,2″-[o,o′,o″-(ethenylsilylidyne)trioxime].
P-17-0309 | 5/19/2017 | 8/17/2017 | CBI | (S) Crosslinker for silicone sealants used to create metal-to-metal, metal-to-glass, or metal-to-ceramic bonds in automotive and white goods production (S) As crosslinker in silicone sealants used in automotive repair shops to seal various metal parts in vehicles to metal and glass | (S) 2-pentanone, 2,2′,2″-[o,o′,o″-(methylsilylidyne)trioxime].
P-17-0311 | 5/23/2017 | 8/21/2017 | CBI | (S) Raw materials constituting the ultraviolet curable ink (S) Material monomer for synthesizing polymer | (G) Aromatic acrylate.
P-17-0312 | 5/24/2017 | 8/22/2017 | CBI | (G) Additive for electrocoat formulas | (G) Organic acid, compounds with bisphenol a-epichlorohydrin-polypropylene glycol diglycidyl ether polymer-disubstituted amine-disubstituted polypropylene glycol reaction products.
P-17-0313 | 5/24/2017 | 8/22/2017 | CBI | (G) Additive for electrocoat formulas | (G) Phenol, 4,4′-(1-methylethylidene)bis-, polymer with 2-(chloromethyl)oxirane and alpha-(2-oxiranylmethyl)-omega-(2-oxiranylmethoxy)poly[oxy (methyl-1,2-ethanediyl)], reaction products with disubstituted amine and disubstituted polypropylene glycol, organic acid salts.
P-17-0314 | 5/24/2017 | 8/22/2017 | CBI | (G) Additive for electrocoat formulas | (G) Organic acid, 2-substituted-, compounds with bisphenol a-epichlorohydrin- polypropylene glycol diglycidyl ether polymer-disubstituted amine-disubstituted polypropylene glycol reaction products.
P-17-0315 | 5/24/2017 | 8/22/2017 | CBI | (G) Additive for electrocoat formulas | (G) Phenol, 4,4′-(1-methylethylidene)bis-, polymer with alpha-(2-substituted-methylethyl)-omega-(2-substituted-methylethoxy)poly[oxy (methyl-1,2-ethanediyl)], 2-(chloromethyl)oxirane and alpha-(2-oxiranylmethyl)-omega-(2-oxiranylmethoxy)poly [oxy (methyl-1,2-ethanediyl)], alkylphenyl ethers, reaction products with disubstituted amine, organic acid salts.
P-17-0316 | 5/24/2017 | 8/22/2017 | CBI | (G) Additive for electrocoat Formulas | (G) Organic acid, compounds with bisphenol a-epichlorohydrin-disubstituted polypropylene glycol-polypropylene glycol diglycidyl ether polymer alkylphenyl ethers-disubstituted amine reaction products.
P-17-0317 | 5/24/2017 | 8/22/2017 | CBI | (G) Additive for electrocoat formulas | (G) Organic acid, compounds with bisphenol a-epichlorohydrin-polypropylene glycol diglycidyl ether polymer-disubstituted polypropylene glycol reaction products.
P-17-0318 | 5/24/2017 | 8/22/2017 | CBI | (G) Component in nutrient solutions | (G) Sulfuric acid mixed salt.
P-17-0319 | 5/26/2017 | 8/24/2017 | Inolex Chemical Company | (S) This material will be used as an emollient for a fabric softener/conditioning product | (S) L-isoleucine, c12-22-alkyl esters, ethanesulfonates.
P-17-0321 | 5/30/2017 | 8/28/2017 | CBI | (G) Monitoring of oil/gas well performance | (G) Naphthalene trisulfonic acid sodium salt.

For the 1 TME's received by EPA during this period, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table 2—TMEs Received From May 1, 2017 to May 31, 2017
Case No. | Received date | Projected notice end date | Manufacturer importer | Use | Chemical
T-16-0017 | 5/25/2016 | 7/9/2016 | CBI | (G) Wax | (G) Modified vegetable oil.

For the 115 NOCs received by EPA during this period, Table 2 provides the following information (to the extent that such information is not claimed as CBI): The EPA case number assigned to the NOC; the date the NOC was received by EPA; the projected date of commencement provided by the submitter in the NOC; and the chemical identity.

Table 3—NOCs Received From May 1, 2017 to May 31, 2017
Case No. | Received date | Commencement date | Chemical
P-16-0330 | 5/1/2017 | 4/28/2017 | (G) Hydroxy functional triglyceride polymer with glycerol mono-ester and 1,1′-methylenebis[4-isocyanatobenzene].
P-16-0338 | 5/1/2017 | 4/23/2017 | (G) Xanthylium, (sulfoaryl)—bis [(substituted aryl) amino]-, sulfo derivs., inner salts, metal salts.
J-16-0026 | 5/5/2017 | 5/3/2017 | (G) Trichoderma reesei modified.
J-17-0007 | 5/26/2017 | 5/6/2017 | (G) Biofuel producing saccharomyces cerevisiae modified, genetically stable.
P-08-0671 | 5/9/2017 | 4/13/2017 | (S) Hexanedioic acid, polymer with 1,4-butanediol, 1,3-diisocyanatomethylbenzene and 1,2-propanediol.
P-13-0285 | 5/2/2017 | 3/22/2017 | (G) Substituted aromatic polyamic acid polymer.
P-14-0043 | 5/23/2017 | 5/4/2017 | (G) Poly[oxy(methyl-1,2-ethanediyl)], alpha.-[methyl-2-[(alkyl)amino]ethyl]-.omega.-[methyl-2-[alkyl)amino]ethoxy].
P-15-0669 | 5/12/2017 | 5/2/2017 | (S) Glycine, n,n′-1,2-ethanediylbis-, reaction products with formaldehyde, iron chloride (fecl3) and phenol, potassium salts.
P-16-0184 | 5/10/2017 | 4/21/2017 | (G) Mixture of polyester carboxylates.
P-16-0255 | 5/4/2017 | 3/28/2017 | (S) 1-butanaminium, n,n,n-tributyl-, carbonate (1:1).
P-16-0256 | 5/4/2017 | 3/28/2017 | (S) 1-butanamium, n,n,n-tributyl-, methyl carbonate (1:1).
P-16-0257 | 5/4/2017 | 3/28/2017 | (S) 1-butanaminium, n,n,n-tributyl-, ethyl carbonate (1:1).
P-16-0258 | 5/4/2017 | 3/28/2017 | (S) 1-butanaminium, n,n,n-tributyl-, propyl carbonate (1:1).
P-16-0259 | 5/4/2017 | 3/28/2017 | (S) 1-butanaminium, n,n,n-tributyl-, 1-methylethyl carbonate (1:1).
P-16-0289 | 5/26/2017 | 5/4/2017 | (G) Benzene dicarboxylic acid, polymer with alkane dioic acid and aliphatic diamine.
P-16-0339 | 5/1/2017 | 4/23/2017 | (G) Substituted triazinyl metal salt, diazotized, coupled with substituted pyridobenzimidazolesulfonic acids, substituted pyridobenzimidazolesulfonic acids, diazotized substituted alkanesulfonic acid, diazotized substituted aromatic sulfonate, diazotized substituted aromatic sulfonate, metal salts.
P-16-0352 | 5/22/2017 | 5/14/2017 | (S) Phenol, 2-[[[3-(decloxy)propyl]imino]methyl]-.
P-16-0352 | 5/22/2017 | 5/14/2017 | (S) Phenol, 2-[[[3-(octyloxy)propyl]imino]methyl]-.
P-16-0439 | 5/1/2017 | 4/23/2017 | (G) Carbon black, (organic acidic carbocyclic)-modified, inorganic salt.
P-16-0440 | 5/9/2017 | 5/1/2017 | (G) Carbon black, (organic acidic carbocyclic)-modified, metal salt.
P-17-0032 | 5/31/2017 | 5/3/2017 | (S) 1,3,5-napthalenetrisulfonic acid.
P-17-0033 | 5/3/2017 | 3/22/2017 | (S) Benzoic acid, 2-fluoro-, sodium salt (1:1).
P-17-0034 | 5/3/2017 | 3/22/2017 | (S) Benzoic acid, 4-fluoro-, sodium salt (1:1).
P-17-0035 | 5/3/2017 | 3/22/2017 | (S) Benzoic acid, 2,3,4,5-tetrafluoro-.
P-17-0036 | 5/3/2017 | 3/22/2017 | (S) Benzoic acid, 2,3,4,5-tetrafluoro-, sodium salt (1:1).
P-17-0037 | 5/3/2017 | 3/22/2017 | (S) Benzoic acid, 2-(trifluoromethyl)-.
P-17-0038 | 5/3/2017 | 3/22/2017 | (S) Benzoic acid, 2-(trifluoromethyl)-, sodium salt (1:1).
P-17-0039 | 5/3/2017 | 3/22/2017 | (S) Benzoic acid, 4-(trifluoromethyl)-, sodium salt.
P-17-0040 | 5/3/2017 | 3/22/2017 | (S) Benzoic acid, 2,5-difluoro-.
P-17-0041 | 5/3/2017 | 3/22/2017 | (S) Benzoic acid, 2,5-difluoro-, sodium salt (1:1).
P-17-0042 | 5/3/2017 | 3/22/2017 | (S) Benzoic acid, 3-fluoro-, sodium salt (1:1).
P-17-0043 | 5/3/2017 | 3/22/2017 | (S) Benzoic acid, 2,6-difluoro-, sodium salt (1:1).
P-17-0044 | 5/3/2017 | 3/22/2017 | (S) Benzoic acid, 2,6-difluoro-.
P-17-0045 | 5/3/2017 | 3/22/2017 | (S) Benzoic acid, 3,5-difluoro-, sodium salt (1:1).
P-17-0046 | 5/3/2017 | 3/22/2017 | (S) Benzoic acid, 3,5-difluoro-.
P-17-0047 | 5/3/2017 | 3/22/2017 | (S) Benzoic acid, 2,4-difluoro-, sodium salt (1:1).
P-17-0048 | 5/3/2017 | 3/22/2017 | (S) Benzoic acid, 2,4-difluoro-.
P-17-0050 | 5/3/2017 | 3/22/2017 | (S) Benzoic acid, 3,4-difluoro-, sodium salt (1:1).
P-17-0051 | 5/3/2017 | 3/22/2017 | (S) Benzoic acid, 3,4-difluoro-.
P-17-0052 | 5/3/2017 | 3/22/2017 | (S) Benzoic acid, 3,4,5-trifluoro-, sodium salt (1:1).
P-17-0053 | 5/3/2017 | 3/22/2017 | (S) Benzoic acid, 3,4,5-trifluoro-.
P-17-0054 | 5/3/2017 | 3/22/2017 | (S) Benzoic acid, 2,3,4-trifluoro-.
P-17-0055 | 5/3/2017 | 3/22/2017 | (S) Benzoic acid, 2,3,4-trifluoro-, sodium salt (1:1).
P-17-0056 | 5/3/2017 | 3/22/2017 | (S) Benzoic acid, 2,4,5-trifluoro-.
P-17-0057 | 5/3/2017 | 3/22/2017 | (S) Benzoic acid, 2,4,5-trifluoro-, sodium salt (1:1).
P-17-0058 | 5/3/2017 | 3/22/2017 | (S) Benzoic acid, 2,3-difluoro-.
P-17-0059 | 5/3/2017 | 3/22/2017 | (S) Benzoic acid, 2,3-difluoro-, sodium salt (1:1).
P-17-0060 | 5/3/2017 | 3/22/2017 | (S) Benzoic acid, 3-(trifluoromethyl)-.
P-17-0061 | 5/3/2017 | 3/22/2017 | (S) Benzoic acid, 3-(trifluoromethyl)-, sodium salt (1:1).
P-17-0062 | 5/3/2017 | 3/22/2017 | (S) Benzoic acid, 2-chloro-, sodium salt (1:1).
P-17-0063 | 5/3/2017 | 3/22/2017 | (S) Benzoic acid, 4-chloro-, sodium salt (1:1).
P-17-0064 | 5/3/2017 | 3/22/2017 | (S) Benzoic acid, 3-chloro-, sodium salt (1:1).
P-17-0065 | 5/3/2017 | 3/22/2017 | (S) Benzoic acid, 2,3-dichloro-.
P-17-0066 | 5/3/2017 | 3/22/2017 | (S) Benzoic acid, 2,3-dichloro-, sodium salt (1:1).
P-17-0067 | 5/3/2017 | 3/22/2017 | (S) Benzoic acid, 2,5-dichloro-, sodium salt (1:1).
P-17-0068 | 5/3/2017 | 3/22/2017 | (S) Benzoic acid, 3,5-dichloro-.
P-17-0069 | 5/3/2017 | 3/22/2017 | (S) Benzoic acid, 3,5-dichloro-, sodium salt (1:1).
P-17-0070 | 5/3/2017 | 3/22/2017 | (S) Benzoic acid, 2,6-dichloro-.
P-17-0071 | 5/3/2017 | 3/22/2017 | (S) Benzoic acid, 2,6-dichloro-, sodium salt (1:1).
P-17-0072 | 5/3/2017 | 3/22/2017 | (S) Benzoic acid, 3,4-dichloro-, sodium salt (1:1).
P-17-0073 | 5/3/2017 | 3/22/2017 | (S) Benzoic acid, 2,4-dichloro-, sodium salt (1:1).
P-17-0074 | 5/3/2017 | 3/22/2017 | (S) Benzoic acid, 2-chloro-4-fluoro-.
P-17-0075 | 5/3/2017 | 3/22/2017 | (S) Benzoic acid, 2-chloro-4-fluoro-, sodium salt (1:1).
P-17-0076 | 5/3/2017 | 3/22/2017 | (S) Benzoic acid, 3-chloro-4-fluoro-, sodium salt (1:1).
P-17-0077 | 5/3/2017 | 3/22/2017 | (S) Benzoic acid, 5-chloro-2-fluoro-.
P-17-0078 | 5/3/2017 | 3/22/2017 | (S) Benzoic acid, 3-chloro-4-fluoro-.
P-17-0079 | 5/3/2017 | 3/22/2017 | (S) Benzoic acid, 5-chloro-2-fluoro-, sodium salt (1:1).
P-17-0080 | 5/3/2017 | 3/22/2017 | (S) Benzoic acid, 4-chloro-3-fluoro-, sodium salt (1:1).
P-17-0081 | 5/3/2017 | 3/22/2017 | (S) Benzoic acid, 4-chloro-3-fluoro-.
P-17-0082 | 5/3/2017 | 3/22/2017 | (S) Benzoic acid, 4-chloro-2-fluoro-.
P-17-0083 | 5/3/2017 | 3/22/2017 | (S) Benzoic acid, 4-chloro-2-fluoro-, sodium salt (1:1).
P-17-0084 | 5/3/2017 | 3/22/2017 | (S) Benzoic acid, 5-bromo-2-chloro-.
P-17-0085 | 5/3/2017 | 3/22/2017 | (S) Benzoic acid, 5-bromo-2-chloro-, sodium salt (1:1).
P-17-0087 | 5/3/2017 | 3/22/2017 | (S) Benzoic acid, 3-bromo-4-fluoro-, sodium salt (1:1).
P-17-0088 | 5/3/2017 | 3/22/2017 | (S) Benzoic acid, 3-bromo-4-fluoro-.
P-17-0089 | 5/3/2017 | 3/22/2017 | (S) Benzoic acid, 2-bromo-5-fluoro-.
P-17-0090 | 5/3/2017 | 3/22/2017 | (S) Benzoic acid, 2-bromo-5-fluoro-, sodium salt (1:1).
P-17-0091 | 5/3/2017 | 3/22/2017 | (S) Benzoic acid, 4-bromo-2-fluoro-, sodium salt (1:1).
P-17-0092 | 5/3/2017 | 3/22/2017 | (S) Benzoic acid, 4-bromo-3-fluoro-.
P-17-0093 | 5/3/2017 | 3/22/2017 | (S) Benzoic acid, 4-bromo-3-fluoro-, sodium salt (1:1).
P-17-0094 | 5/3/2017 | 3/22/2017 | (S) Benzoic acid, 2,3,4,5-tetrafluoro-, ethyl ester.
P-17-0095 | 5/3/2017 | 3/22/2017 | (S) Benzoic acid, 4-(trifluoromethyl)-, ethyl ester.
P-17-0096 | 5/3/2017 | 3/22/2017 | (S) Benzoic acid, 2-(trifluoromethyl)-, ethyl ester.
P-17-0097 | 5/3/2017 | 3/22/2017 | (S) Benzoic acid, 4-bromo-2-fluoro-.
P-17-0098 | 5/3/2017 | 3/22/2017 | (S) Benzoic acid, 2,6-difluoro-, ethyl ester.
P-17-0099 | 5/3/2017 | 3/22/2017 | (S) Benzoic acid, 2,5-difluoro-, ethyl ester.
P-17-0100 | 5/3/2017 | 3/22/2017 | (S) Benzoic acid, 2,3,4-trifluoro-, ethyl ester.
P-17-0101 | 5/3/2017 | 3/22/2017 | (S) Benzoic acid, 2-bromo-5-fluoro-, ethyl ester.
P-17-0102 | 5/3/2017 | 3/22/2017 | (S) Benzoic acid, 3,5-difluoro-, ethyl ester.
P-17-0103 | 5/3/2017 | 3/22/2017 | (S) Benzoic acid, 5-bromo-2-chloro-, ethyl ester.
P-17-0104 | 5/3/2017 | 3/22/2017 | (S) Benzoic acid, 3-chloro-, ethyl ester.
P-17-0105 | 5/3/2017 | 3/22/2017 | (S) Benzoic acid, 2-chloro-, ethyl ester.
P-17-0114 | 5/3/2017 | 3/22/2017 | (S) Benzoic acid, 3-chloro-4-fluoro-, ethyl ester.
P-17-0122 | 5/3/2017 | 3/22/2017 | (S) Benzoic acid, 4-bromo-2-fluoro-, ethyl ester.
P-17-0123 | 5/3/2017 | 3/22/2017 | (S) Benzoic acid, 2-bromo-4,5-difluoro-, ethyl ester.
P-17-0124 | 5/3/2017 | 3/22/2017 | (S) Benzoic acid, 4-bromo-3-fluoro-, ethyl ester.
P-17-0125 | 5/3/2017 | 3/22/2017 | (S) Benzoic acid, 3-bromo-4-fluoro-, ethyl ester.
P-17-0126 | 5/3/2017 | 3/22/2017 | (S) Benzoic acid, 4-chloro-2-fluoro-, ethyl ester.
P-17-0127 | 5/3/2017 | 3/22/2017 | (S) Benzoic acid, 2,5-dichloro-, ethyl ester.
P-17-0128 | 5/3/2017 | 3/22/2017 | (S) Benzoic acid, 4-chloro-3-fluoro-, ethyl ester.
P-17-0129 | 5/3/2017 | 3/22/2017 | (S) Benzoic acid, 2-chloro-4-fluoro-, ethyl ester.
P-17-0130 | 5/3/2017 | 3/22/2017 | (S) Benzoic acid, 5-chloro-2-fluoro-, ethyl ester.
P-17-0131 | 5/3/2017 | 3/22/2017 | (S) Benzoic acid, 2,4-difluoro-, ethyl ester.
P-17-0132 | 5/3/2017 | 3/22/2017 | (S) Benzoic acid, 3,4-difluoro-, ethyl ester.
P-17-0133 | 5/3/2017 | 3/22/2017 | (S) Benzoic acid, 3,4,5-trifluoro-, ethyl ester.
P-17-0134 | 5/3/2017 | 3/22/2017 | (S) Benzoic acid, 2,4,5-trifluoro-, ethyl ester.
P-17-0135 | 5/3/2017 | 3/22/2017 | (S) Benzoic acid, 3-(trifluoromethyl)-, ethyl ester.
P-17-0136 | 5/3/2017 | 3/22/2017 | (S) Benzoic acid, 2,3-difluoro-, ethyl ester.
P-17-0137 | 5/3/2017 | 3/22/2017 | (S) Benzoic acid, 2,6-dichloro-, ethyl ester.
P-17-0138 | 5/3/2017 | 3/22/2017 | (S) Benzoic acid, 3,5-dichloro-, ethyl ester.
P-17-0139 | 5/3/2017 | 3/22/2017 | (S) Benzoic acid, 2,4-dichloro-, ethyl ester.
P-17-0140 | 5/3/2017 | 3/22/2017 | (S) Benzoic acid, 3,4-dichloro-, ethyl ester.
P-17-0158 | 5/25/2017 | 2/16/2017 | (G) Perylene bis (diisopropylphenyl) bisimide.
P-17-0161 | 5/22/2017 | 5/2/2017 | (G) 2-propenoic acid, alkyl-, alkyl ester, polymer with alkyl 2-propenoate, dialkyloxoalkyl-2-propenamide, ethenylbenzene and alkyl 2-propenoate.
P-96-1182 | 5/10/2017 | 5/9/2017 | (G) Inorganic acid, compounds with [(substituted-propyl)imino]bis[alkanol]-bisphenol a-epichlorohydrin-hexahydro-1,3-isobenzofurandione-polyethylene glycol ether with bisphenol a (2:1) polymer-disubstituted amine-alkanolamine reaction products.

Authority: 15 U.S.C. 2601 et seq.

Dated: August 7, 2017.
Megan Carroll,
Deputy Director, Information Management Division, Office of Pollution Prevention and Toxics.

[FR Doc. 2017-18779 Filed 9-5-17; 8:45 am]

BILLING CODE 6560-50-P